DEPARTMENT OF VETERANS AFFAIRS

Voluntary Services National Advisory Committee; Notice of Meeting

The Department of Veterans Affairs (VA) gives notice under Public Law 92-463 (Federal Advisory Committee Act) that the annual meeting of the Department of Veterans Affairs Voluntary Service (VAVS) National Advisory Committee (NAC) will be held on May 3-6, 2006, at the John Ascuga's Nugget, 1100 Nugget Avenue, Sparks, Nevada. The meeting sessions are scheduled from 6 p.m. until 9 p.m. on May 3; from 8:30 a.m. until 11:30 a.m. on May 4, 5 and 6, with a closing program at 6 p.m. on May 6. The meeting is open to the public.

The Committee advises the Secretary, through the Under Secretary for Health, on the coordination and promotion of volunteer activities within VA health care facilities.

The purposes of this meeting are to provide for Committee review of volunteer policies and procedures; to accommodate full and open communications between the participating organizations, representatives and the VA Voluntary Service Office; to provide educational opportunities for improving volunteer programs, with special emphasis on recruitment, retention and recognition of volunteers; and to approve Committee recommendations. This year marks the 60th anniversary of the creation of the VA Voluntary Service.

The May 3 session will feature award presentations involving the member organizations. Remarks will be presented by several VA and local officials.

The May 4 session will feature remarks by the Under Secretary for Health who will also present an updated Voluntary Service report. The Director of the Voluntary Service Office will officially recognize recipients of the VAVS American Spirit Award, VAVS Award for Excellence, and NAC Volunteers of the Year. After the session, there will be educational workshops entitled Fisher House, Mentoring Youth Volunteers, Recruitment Tips for Baby Boomers, and Family Volunteering.

On May 5, the business session will include subcommittee reports and presentations on the Veterans Canteen Service and National Cemetery Administration. The James H. Parke Memorial Scholarship Luncheon will be held to honor an outstanding youth volunteer. This session will be followed by educational workshops entitled VAVS History, VAVS Recommendations, Cemetery Service, and Partnering with DoD/Family Support.

The May 6 session will include a presentation on Echo Taps, planning for next year's meeting and closing remarks by the Chairman. The evening will conclude with a Volunteer Recognition Dinner.

No time will be allocated at this meeting for receiving oral presentations from the public. However, interested persons may either attend or file statements with the Committee. Written statements may be filed either before the meeting or within 10 days after the meeting and addressed to: Ms. Laura Balun, Director, Voluntary Service Office (10C2), Department of Veterans Affairs, 810 Vermont Avenue, NW., Washington, DC 20420. Individuals interested in attending are encouraged to contact Ms. Balun at (202) 273-8952.

Dated: April 7, 2006.
By Direction of the Secretary.
E. Philip Riggin,
Committee Management Officer.

[FR Doc. 06-3649 Filed 4-17-06; 8:45 am]

BILLING CODE 8320-01-M